NUCLEAR REGULATORY COMMISSION

Notice of a Public Meeting on Assessing Future Regulatory Research Needs

AGENCY: U.S. Nuclear Regulatory Commission.

ACTION: Notice of public meeting.

SUMMARY: The U.S. Nuclear Regulatory Commission (NRC) will hold a second meeting of nuclear experts from the government, the nuclear industry, academia, and the public on Friday, September 15, 2000. The purpose of the meeting is to discuss and share stakeholder input on the role and future direction of nuclear regulatory research. The meeting is open to the public and all interested parties may attend.

DATES: The meeting will be held from 8:00 am to 5:00 pm on September 15, 2000 in the Georgetown Room of the Ramada Inn which is located at 1775 Rockville Pike, Rockville, Maryland 20852. The telephone number of the hotel is 301-881-2300.

FOR FURTHER INFORMATION CONTACT: Questions with respect to this meeting should be referred to James W. Johnson, Office of Nuclear Regulatory Research, U.S. Nuclear Regulatory Commission at (301) 415-6293; fax 301-415-5153; E-mail jwj@nrc.gov or Joseph J. Mate, at (301) 415-6202; fax 301-415-5153; E-mail jjm@nrc.gov.

SUPPLEMENTARY INFORMATION: Adequate parking is available at the hotel at no cost. The hotel can also be reached by Metro. It is located one and one half blocks west of the Twinbrook Metro Stop on the Red Line. From the Metro station proceed west to the hotel on the Rockville Pike.

Seating for the public is limited and therefore will be on a first-come basis.

Dated at Rockville, Maryland, this 30th day of August, 2000.
For the Nuclear Regulatory Commission.
Ashok C. Thadani,
Director, Office of Nuclear Regulatory Research, U.S. Nuclear Regulatory Commission.

[FR Doc. 00-22780 Filed 9-5-00; 8:45 am]

BILLING CODE 7590-01-P